DEPARTMENT OF EDUCATION

National Assessment Governing Board; Meeting

AGENCY: Department of Education, National Assessment Governing Board.

ACTION: Notice of open meeting and partially closed sessions.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (e.g. interpreting services, assistive listening devices, materials in alternative format) should notify Munira Mwalimu at 202-357-6938 or at Munira.Mwalimu@ed.gov no later than February 14, 2011. We will attempt to meet requests after this date, but cannot guarantee availability of the requested accommodation. The meeting site is accessible to individuals with disabilities.

DATES: March 3-5, 2011.

Times:

March 3: Committee Meetings:

Assessment Development Committee: Closed Session—12 p.m.-4:15 p.m.

Executive Committee: Open Session—4:30 p.m. to 5:15 p.m.; Closed Session—5:15 p.m. to 6 p.m.

March 4:

Full Board: Open Session—8:15 a.m. to 10 a.m.; Closed Session—12:45 p.m. to 1:45 p.m.; Open Session—2 p.m. to 5 p.m.

Committee Meetings:

Assessment Development Committee: Closed Session—10:20 a.m. to 12:0 p.m.; Open session 12:25 p.m.-12:30 p.m.

Committee on Standards, Design and Methodology: Open Session—10:15 a.m. to 12:30 p.m.

Reporting and Dissemination Committee: Open Session—10:15 a.m. to 12:30 p.m.

March 5:

Nominations Committee: Closed Session—7:30 a.m. to 8:15 a.m.

Full Board: Closed Session—8:30 a.m. to 9 a.m.; Open Session—9 a.m. to 12 noon.

Location: Marriott Miami Biscayne Bay, 1633 North Bayshore Drive, Miami, FL 33132

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under Section 302 of Title III. Public Law 107-279 (which amended Pub. L. 107-110), the National Assessment of Educational Progress Authorization Act. The Board is established to formulate policy guidelines for the National Assessment of Educational Progress (NAEP). The Board's responsibilities include the following: selecting subject areas to be assessed, developing assessment frameworks and specifications, developing appropriate student achievement levels for each grade and subject tested, developing standards and procedures for regional and national comparisons, developing guidelines for reporting and disseminating results, and releasing initial NAEP results to the public.

On March 3, from 12 p.m. to 4:15 p.m., the Assessment Development Committee will meet in closed session to review 250 secure NAEP test items for the NAEP Long Term Trend in reading and mathematics for ages 9, 13, and 17 for the 2012 operational assessment and the 2016 pilot test. Board members will be provided with secure test items for review that cannot be discussed in an open meeting. Premature disclosure of these secure materials would significantly impede implementation of the NAEP assessments, and is therefore protected by exemption 9(B) of section 552b(c) of Title 5 U.S.C.

On March 3, from 4:30 p.m. to 5:15 p.m., the Executive Committee will meet in open session and thereafter in closed session from 5:15 p.m. to 6 p.m. During the closed session on March 3, the Executive Committee will receive a briefing from the National Center for Education Statistics (NCES) on options for NAEP contracts covering assessment years beyond 2011 and discuss budget implications for the NAEP assessment schedule and for international linking studies. The discussion of contract options and costs will address the congressionally mandated goals and Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

On March 4, the full Board will meet in open session from 8:15 a.m. to 10 a.m. The Board will review and approve the meeting agenda and meeting minutes from the November 2010 Board meeting. The Executive Director will then administer the oath of office for a new Board member. This session will be followed by welcome remarks from the Governing Board member from Florida, Representative Anitere Flores and invited guests from Florida. The Executive Director of the Governing Board will then provide a report to the Board followed by remarks and updates from the Commissioner of the National Center for Education Statistics, and the Director of the Institute of Education Sciences. The Board will recess for Committee meetings on March 4 from 10:15 a.m. to 12:30 p.m.

The Reporting and Dissemination Committee and the Committee on Standards, Design and methodology will meet in open sessions on March 4 from 10:15 a.m. to 12:30 p.m. The Assessment Development Committee will meet in closed session from 10:15 a.m. to 12:30 p.m. From 10:15 a.m. to 11:20 a.m. the Assessment Development Committee will continue its review of the Long Term Trend test items that began the prior day, March 3. From 11:20 a.m. to noon the Committee will receive an embargoed briefing on the NAEP 2009 Science Interactive Computer Tasks (ICTs) and Hands-on Tasks (HOTs), which will include demonstration of secure tasks and preliminary embargoed data. This science report is not scheduled for public release until summer 2011. These data cannot be discussed in an open meeting prior to official release. Premature disclosure of data would significantly impede implementation of the NAEP assessment, and is therefore protected by exemption 9(B) of section 552b(c) of Title 5 U.S.C. The Assessment Development Committee will meet in open session from 12:25 p.m. to 12:30 p.m.

On March 4, from 12:45 p.m. to 1:45 p.m. the full Board will meet in closed session to receive a briefing on the 2009 NAEP High School Transcript Study. Board members will be provided with embargoed results that cannot be discussed in an open meeting prior to their official release. Premature disclosure of data would significantly impede implementation of the NAEP assessment, and is therefore protected by exemption 9(B) of section 552b(c) of Title 5 U.S.C.

From 2 p.m. to 3:45 p.m. the Board will meet in open session to receive briefings on the Virtual School in Florida and Options for NAEP Feedback to Schools. Following these sessions, from 4 p.m. to 5 p.m., the Board will discuss the Future of the Governing Board and NAEP. The March 4, 2011 Board meeting is scheduled to conclude at 5 p.m.

On March 5, the Nominations Committee will meet in closed session from 7:30 a.m. to 8:15 a.m. to review and discuss the final slates of nominees for six positions for terms beginning October 1, 2011. On March 5 from 8:30 a.m. to 9 a.m. the Nominations Committee will provide a briefing to the full Board in closed session on the recommended slate of finalists, following which, the Board will take action on the recommendations in open session. These discussions pertain solely to internal personnel rules and practices of an agency and will disclose information of a personal nature where disclosure would constitute an unwarranted invasion of personal privacy. As such, the discussions are protected by exemptions 2 and 6 of section 552b(c) of Title 5 U.S.C.

Following the closed session, the full Board will meet in open session from 9 a.m. to 10 a.m. to receive a briefing on understanding how NAEP questions are scored. At 10:15 a.m. the Board will receive Committee reports and take action on Committee recommendations. The March 5, 2011 session of the Board meeting is scheduled to adjourn at 12 noon.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW, Washington, DC, from 9 a.m. to 5 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-0000; or in the Washington, DC area at (202) 512-1800.

Note: The official version of this document is the document published in the Federal Register. Free Internet access to the official edition of the Federal Register and the Code of Federal Regulations is available on GPO Access at: http://www.gpoaccess.gov/nara/index.html

Dated: February 4, 2011.
Cornelia S. Orr,
Executive Director, National Assessment Governing Board, U.S. Department of Education.

[FR Doc. 2011-2902 Filed 2-8-11; 8:45 am]

BILLING CODE 4000-01-P